DEPARTMENT OF COMMERCE

Foreign-Trade Zones Board

[B-31-2014]

Foreign-Trade Zone 119—Minneapolis, Minnesota; Authorization of Limited Production Activity; The Coleman Company, Inc. (Textile-Based Personal Flotation Devices); Sauk Rapids, Minnesota

On March 13, 2014, The Coleman Company, Inc., an operator of FTZ 119, submitted a notification of proposed production activity to the Foreign-Trade Zones (FTZ) Board for its facility in Sauk Rapids, Minnesota.

The notification was processed in accordance with the regulations of the FTZ Board (15 CFR part 400), including notice in the Federal Register inviting public comment (79 FR 18509-18510, 4-2-2014). The FTZ Board has determined that further review of part of the proposed activity is warranted at this time. The production activity described in the notification is authorized on a limited basis, subject to the FTZ Act and the FTZ Board's regulations, including Section 400.14, and further subject to a restriction requiring that all foreign status textile fabrics and cases of textile materials (classified within HTSUS Subheadings 4202.92, 5407.42, 5407.51, 5407.52, 5407.82, 6004.10, 5906.91, and 5806.32) be admitted to the zone in domestic (duty-paid) status (19 CFR 146.43) or privileged foreign status (19 CFR 146.41).

Dated: July 21, 2014.
Andrew McGilvray,
Executive Secretary.

[FR Doc. 2014-17580 Filed 7-24-14; 8:45 am]

BILLING CODE 3510-DS-P